DEPARTMENT OF TRANSPORTATION

Federal Aviation Administration

[Docket No. 2020-0486]

Agency Information Collection Activities: Requests for Comments; Clearance of a Renewed Approval of Information Collection: Survey of Uncrewed-Aircraft-Systems Operators

AGENCY: Federal Aviation Administration (FAA), DOT.

ACTION: Notice and request for comments.

SUMMARY: In accordance with the Paperwork Reduction Act of 1995, FAA invites public comments about our intention to request the Office of Management and Budget (OMB) approval to renew an information collection. The information collection involves a survey of uncrewed-aircraft-systems (UAS) operators within the United States. The information gathered through the survey's questionnaire on flight behavior and fleet characteristics is used to inform UAS rule making and guide investment in UAS research and infrastructure. This renewal seeks to continue the survey and improve the survey design to increase the generalization of survey results.

DATES: Written comments should be submitted by November 29th, 2023.

ADDRESSES: Please send written comments:

By Electronic Docket: www.regulations.gov (Enter docket number into search field).

By mail: William Ekins, FAA-APO, 800 Independence Ave SW, Suite 935, Washington, DC 20591.

By fax: Attention: Survey of Uncrewed-Aircraft-System Operators, (202) 267-6384.

FOR FURTHER INFORMATION CONTACT: William Ekins by email at: 9-APO-Surveys@faa.gov; phone: (202) 267-4735.

SUPPLEMENTARY INFORMATION:

Public Comments Invited: You are asked to comment on any aspect of this information collection, including (a) whether the proposed collection of information is necessary for FAA's performance; (b) the accuracy of the estimated burden; (c) ways for FAA to enhance the quality, utility, and clarity of the information collection; and (d) ways that the burden could be minimized without reducing the quality of the collected information. The agency will summarize and/or include your comments in the request for OMB's clearance of this information collection.

OMB Control Number: 2120-0797.

Title: Survey of Uncrewed-Aircraft-Operators.

Form Numbers: Online Collection.

Type of Review: The review is for the modification and renewal of the Survey of Unmanned-Aircraft-Systems Operators.

Background: We conducted the Survey of UAS Operators for 2021 and 2022 UAS activity under the original information collection request granted in March of 2021. These surveys utilized a stratified random sampling design with the operator's county of residence and type of operator as strata. The survey collected information through a questionnaire with 76 questions, but due to the skip logic of the questionnaire, the average respondent only answered 16 questions. The 2021 and 2022 surveys received 17,736 and 22,846 responses, respectively. The information from these surveys have been used to improve the questionnaire and inform rule making.

This information collection request is to modify and renew the existing Survey of UAS Operators. The continuation of this survey is expected to improve the FAA's knowledge of UAS operations and better predict the nature of UAS operations within the national airspace system (NAS). The information gathered empowers the FAA to make informed decisions surrounding UAS operations within the NAS thereby supporting its mission of safety and alignment with title 49 of the United States Code.

This information collection renewal asks to improve the survey design by expanding the target population and adding an additional stratum to the sampling process. The original survey's target population included only registered small UAS operators—operators with UAS weighing less than 55lbs—within the United States. The survey under the renewed information collection would expand the target population to include all UAS operators, regardless of UAS weight, by including UAS operators with a section 44807 exemption, which utilizes the aircraft registry under section 44103 as a sample frame. In addition, data collected from the 2021 and 2022 UAS activity surveys suggested that operators with larger UAS fleets have more diverse UAS activity than UAS operators with small fleets, who are most of the section 349 and part 107 registries. Therefore, to improve sampling a fleet-size based stratum will be added to the sampling process when a registry contains information on the size of the fleet, such as the part 107 registry. This will ensure proper sampling of operators with large fleets.

Selected registrants are invited to complete a questionnaire regarding the operator's fleet characteristics, flight behavior, and overall UAS activities. The survey's questionnaire contains over 80 questions, but due to skip logic, the average respondent will only answer 18 questions. Commercial and emergency response operator have 6 and 10 additional questions, respectively, specific to their sector. We estimate the questionnaire requires 10 minutes on average to complete. Responding to the survey is voluntary, and respondents are given the option of opting out of the current year's survey or all future surveys. All collected data are anonymized and only aggregated data are reported, thereby protecting the identity of the respondents. The survey will open in November of the year for which the UAS activity is gathered and close on February 1st of the following year.

Due to the changing nomenclature of this section of aviation, we request to change the name of the survey from the Survey of Unmanned-Aircraft-Systems Operators to the Survey of Uncrewed-Aircraft-Systems Operators.

Respondents: We expect approximately 113,000 respondents from across the United States over the three-years authorization of this information collection. The collection's sample is formed from three registries of UAS operators: (1) the registry of small, non-recreational operators under Title 14, Part 107 of the Code of Federal Regulation, (2) the registry of small, recreational operators under Section 349 of the FAA Reauthorization Act of 2018; and (3) the commercial operators with section 44807 exemptions who are registered in the aircraft registry under title 49 of the U.S.C., section 44103 registry.

Frequency: Annually.

Estimated Average Burden per Response: 10 minutes.

Estimated Total Annual Burden: 6,279 hrs/yr.

Issued in Washington, DC on September 29th, 2023.
William Ekins,
Economist, Office of Aviation Policy and Plans, APO-100, Federal Aviation Administration, Department of Transportation.

[FR Doc. 2023-21639 Filed 9-29-23; 8:45 am]

BILLING CODE 4910-13-P